DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service, an agency delivering the U.S. Department of Agriculture (USDA) Rural Development Utilities Programs, invites comments on this information collection for which approval from the Office of Management and Budget (OMB) will be requested.

DATES: Comments on this notice must be received by September 2, 2008.

FOR FURTHER INFORMATION CONTACT: Michele Brooks, Director, Program Development and Regulatory Analysis, USDA Rural Development, 1400 Independence Ave., SW., STOP 1522, Room 5818 South Building, Washington, DC 20250-1522. Telephone: (202) 690-1078. Fax: (202) 720-3485. E-mail: Michele.brooks@wdc.usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities [see 5 CFR 1320.8(d)]. This notice identifies an information collection that will be submitted to OMB for approval.

Comments are invited on: (a) Whether this collection of information is necessary for the proper performance of the functions of the Agency, including whether the information will have practical utility; (b) the accuracy of the Agency's estimate of the burden of the collection of information including the validity of the methodology and assumptions used; (c) ways to enhance the quality, utility, and clarity of the information to be collected; and (d) ways to minimize the burden of the collection of information on those who respond, including through the use of appropriate automated, electronic, mechanical or other technological collection techniques, or other forms of information technology. Comments may be sent to Michele Brooks, Director, Program Development and Regulatory Analysis, USDA Rural Development, STOP 1522, 1400 Independence Ave., SW., Washington, DC 20250-1522. Fax: (202) 720-3485.

Title: 7 CFR Part 1724, Electric Engineering, Architectural Services and Design Policies and Procedures.

OMB Control Number: 0572-0118.

Type of Request: Revision of a previously approved collection.

Abstract: The rule requires borrower to use three Rural Development contract forms under certain circumstances. The use of standard forms helps assure the Agency that:

• Appropriate standards and specifications are maintained;

• The Agency loan security is not adversely affected; and

• Loan and loan guarantee funds are used effectively and for the intended purpose.

Standardization of forms by Rural Development results in substantial savings to:

• Borrowers—If standard forms were not used, borrowers would need to prepare their own documents at significant expense; and

• Government—If standard forms were not used, each document submitted by a borrower would require extensive and costly review by both Rural Development and the Office of General Counsel.

Estimate of Burden: Public reporting burden for this collection of information is estimated to average 1.05 hours per response.

Respondents: Businesses, not-for-profit institutions and others.

Estimated Number of Respondents: 99.

Estimated Number of Responses per Respondent: 1.

Estimated Total Annual Burden on Respondents: 104 hours.

Copies of this information collection can be obtained from Gale Richardson, Program Development and Regulatory Analysis, at (202) 720-0992.

Fax: (202) 720-3485. E-mail: gale.richardson@wdc.usda.gov.

All responses to this notice will be summarized and included in the request for OMB approval. All comments will also become a matter of public record.

Dated: June 26, 2008.
James Andrew,
Administrator, Rural Utilities Service.

[FR Doc. E8-15006 Filed 7-1-08; 8:45 am]

BILLING CODE 3410-15-P